ENVIRONMENTAL PROTECTION AGENCY

[FRL-7103-7]

Clean Water Act Section 303(d): Availability of Public Comment Extension for Federal Register Notices

AGENCY: Environmental Protection Agency (EPA).

ACTION: Notice of public comment period extension availability.

SUMMARY: This notice announces the extension availability of the public comment period of the Federal Register notice 66 FR 47673-47674 published on 9/13/2001 and Federal Register notice 66 FR 52403-52404 published on 10/15/2001. These TMDLs were completed in response to a court order dated October 1, 1999, in the lawsuit Sierra Club, et al. v. Clifford et al., No. 96-0527, (E.D. La.).

DATES: Comments must be submitted for the Federal Register notice published 9/13/2001 on (pesticides-carbofuran and fipronil) in writing to EPA on or before November 30, 2001 and for the Federal Register notice published on 10/15/2001 (dissolved oxygen, nutrients, and ammonia) in writing to EPA on or before November 30, 2001.

ADDRESSES: Comments on the published notices should be sent to Ellen Caldwell, Environmental Protection Specialist, Water Quality Protection Division, U.S. Environmental Protection Agency Region 6, 1445 Ross Ave., Dallas, TX 75202-2733. For further information, contact Ellen Caldwell at (214) 665-7513. The administrative record file for these TMDLs and the determinations that TMDLs are not needed are available for public inspection at this address as well. Documents from the administrative record file may be viewed at www.epa.gov/region6/water/tmdl.htm, or obtained by calling or writing Ms. Caldwell at the above address. Please contact Ms. Caldwell to schedule an inspection.

FOR FURTHER INFORMATION CONTACT: Ellen Caldwell at (214) 665-7513.

SUPPLEMENTARY INFORMATION: In 1996, two Louisiana environmental groups, the Sierra Club and Louisiana Environmental Action Network (plaintiffs), filed a lawsuit in Federal Court against the EPA, styled Sierra Club, et al. v. Clifford et al., No. 96-0527, (E.D. La.). Among other claims, plaintiffs alleged that EPA failed to establish Louisiana TMDLs in a timely manner. Discussion of the court's order may be found at 65 FR 54032 (September 6, 2000).

EPA will review all data and information submitted during the extended public comment period and revise the TMDLs and determinations that TMDLs are not needed where appropriate. EPA will then forward the TMDLs to the Court and the Louisiana Department of Environmental Quality (LDEQ). LDEQ will incorporate the TMDLs into its current water quality management plan. EPA also will revise the Louisiana 303(d) list as appropriate.

Dated: October 30, 2001.
Joan E. Brown,
Acting Director, Water Quality Protection Division, Region 6.

[FR Doc. 01-28631 Filed 11-14-01; 8:45 am]

BILLING CODE 6560-50-P